DEPARTMENT OF VETERANS AFFAIRS

[OMB Control No. 2900-0089]

Agency Information Collection Activity: Statement of Dependency of Parent(s)

AGENCY: Veterans Benefits Administration, Department of Veterans Affairs.

ACTION: Notice.

SUMMARY: Veterans Benefits Administration, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before October 10, 2017.

ADDRESSES: Submit written comments on the collection of information through Federal Docket Management System (FDMS) at www.Regulations.gov or to Nancy Kessinger, Veterans Benefits Administration, Department of Veterans Affairs, 810 Vermont Avenue NW., Washington, DC 20420 or email to nancy.kessinger@va.gov. Please refer to “OMB Control No. 2900-0089” in any correspondence. During the comment period, comments may be viewed online through FDMS.

FOR FURTHER INFORMATION CONTACT: Nancy Kessinger at (202) 632-8924.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 38 U.S.C. 102, 38 U.S.C. 1315.

Title: Statement of Dependency of Parent(s) VA Form 21P-509.

OMB Control Number: 2900-0089.

Type of Review: Revision of a currently approved collection.

Abstract: 38 U.S.C. 102 requires that income and dependency must be determined before benefits may be paid to, or for, a dependent parent. Regulatory authority is found in 38 CFR 3.4 and 38 CFR 3.250. Information is requested by this form under the authority of 38 U.S.C. 501(a)(2).

VA Form 21P-509 is used by VBA to gather income and dependency information from claimants who are seeking payment of benefits as, or for, a dependent parent. This information is necessary to determine dependency of the parent and make determinations which affect the payment of monetary benefits. The form is used by a veteran seeking to establish his/her parent(s) as dependent(s), and by a surviving parent seeking death compensation.

Affected Public: Individuals and households.

Estimated Annual Burden: 4,000 hours.

Estimated Average Burden per Respondent: 30 minutes.

Frequency of Response: Once, ad hoc.

Estimated Number of Respondents: 8,000.

By direction of the Secretary.
Cynthia Harvey-Pryor,
Department Clearance Officer, Office of Quality and Compliance, Department of Veterans Affairs.

[FR Doc. 2017-16681 Filed 8-7-17; 8:45 am]

BILLING CODE 8320-01-P